DEPARTMENT OF THE INTERIOR

Bureau of Ocean Energy Management

[Docket No. BOEM-2014-0003; MMAA104000]

Potential Commercial Wind Lease Issuance and Site Assessment Activities on the Atlantic Outer Continental Shelf (OCS) Offshore New York

AGENCY: Bureau of Ocean Energy Management (BOEM), Interior.

ACTION: Notice of Intent to Prepare an Environmental Assessment.

SUMMARY: This Notice of Intent to Prepare an Environmental Assessment (Notice) is being published as an initial step to involve Federal agencies, states, tribes, local governments, and the public in an early and transparent process to prepare an Environmental Assessment (EA) in accordance with the requirements of the National Environmental Policy Act (NEPA), 42 U.S.C. 4321 et seq., and the Council on Environmental Quality (CEQ) regulations implementing NEPA, 40 CFR parts 1500-1508. This process includes determining the scope of issues and identifying potentially significant issues related to a proposed project on the OCS offshore New York. This public and expert input will help inform BOEM decision-making with regard to issuing leases and approving site assessment activities.

In consultation with other Federal agencies and BOEM's New York Intergovernmental Renewable Energy Task Force, BOEM has identified an area for consideration for potential future wind energy leasing offshore New York (Call Area). The Call Area is identified in Commercial Leasing for Wind Power on the Outer Continental Shelf Offshore New York—Call for Information and Nominations (Call), which is being published concurrently with this Notice. The leasing process provides several opportunities for public involvement before leasing can occur, including the publication of a Call and proposed sale notice. A commercial lease gives the lessee the exclusive right, subsequently, to seek BOEM approval for the development of the leasehold. The lease does not grant the lessee the right to construct any facilities; rather, the lease grants the lessee the right to use the leased area to develop its plans, which BOEM must approve before the lessee can move on to the next stage of the process. (See 30 CFR 585.600 and 585.601.)

BOEM intends to prepare an EA to consider the environmental consequences associated with issuing commercial wind leases, associated site characterization activities (i.e., biological, archeological, geological and geophysical surveys and core samples), and approving site assessment activities on those leases within the Call Area. If a lessee proposes commercial wind development activity, the specific proposal will be subject to an environmental review at that time. At a minimum, the EA will consider the alternatives of (1) no action (i.e., no issuance of a lease) and (2) the issuance of a lease, associated site characterization activities and approval of certain site assessment activities within the lease area, such as installation of a fixed meteorological tower and/or deployment of a meteorological buoy. With this notice, BOEM requests comments and input from Federal, state, and local government agencies; tribal governments; and other interested parties on environmental issues and alternatives that may be appropriate for consideration in the EA. BOEM also requests information pertaining to measures (e.g., limitations on activities based on technology, siting, or timing) that would minimize the impacts to environmental resources and socioeconomic conditions that could result from the proposed activity. Additionally, as part of its compliance with Section 106 of the National Historic Preservation Act (16 U.S.C. 470f), and its implementing regulations (36 CFR part 800), BOEM is seeking public comment and input regarding the identification of historic properties or potential effects to historic properties from leasing and site assessment activities in the proposed lease area.

Authority: This Notice is published pursuant to 43 CFR 46.305.

FOR FURTHER INFORMATION CONTACT: Michelle Morin, BOEM Office of Renewable Energy Programs, 381 Elden Street, HM 1328, Herndon, Virginia 20170-4817, (703) 787-1340 or michelle.morin@BOEM.gov.

SUPPLEMENTARY INFORMATION:

1. The OCS Wind Energy Leasing and Development Process

There are four key phases in BOEM's wind energy authorization on the OCS: (1) Planning; (2) lease issuance; (3) approval of a site assessment plan (SAP); and (4) approval of a construction and operations plan (COP). During the planning phase, BOEM engages our inter-governmental partners and other relevant parties to delineate an area on the OCS that would be appropriate for commercial wind activities. BOEM is currently working through this stage for the area offshore New York with BOEM's New York Intergovernmental Renewable Energy Task Force. This phase typically ends with the completion of the environmental reviews necessary to support lease issuance. The second phase, issuance of a commercial wind lease, gives the lessee an exclusive right to apply for the required approval of a SAP. The third phase is the applicant's actual submission and BOEM's subsequent review and approval of a SAP. Approval of a SAP allows the lessee to construct and install equipment on the leasehold to perform site assessment functions, such as a meteorological tower or buoys. See 30 CFR 585.600-585.601; 585.605-585.618. The submission of a SAP is separate from the submission of a COP. After the lessee has collected the site characterization and assessment data necessary, the lessee may submit its COP to BOEM for subsequent review and may proceed with construction and operation of a renewable energy facility on the lease if BOEM approves the COP (see 30 CFR 585.620-585.629) and after BOEM's review of a lessee's Facility Design Report and Fabrication and Installation Report (see 30 CFR 585.700-585.702)

2. Proposed Action and Scope of Analysis

The proposed action that will be the subject of the EA is the issuance of one or more renewable energy leases within the Call Area described in this Notice and the approval of site assessment activities on those leases in support of COP information requirements. (See 30 CFR 585.610 and 585.626.) Based on the information submitted in response to this Notice and the Call, BOEM plans to identify any portions of the Call Area that should be excluded from consideration for commercial wind leasing at this time. The remaining area identified will constitute a Wind Energy Area (WEA) and will be subject to environmental analysis in consultation with appropriate Federal agencies, states, local governments, tribes and other interested parties.

Additional NEPA analyses will be required before any future decisions on construction or operation of wind energy facilities on leases that may be issued within the Call Area. If and when a lessee is ready to begin this final phase of renewable energy development, it must submit a COP to proceed. No COP has been submitted to BOEM for a project within the Call Area at this time. If a COP is submitted for a particular project on a lease, appropriate site- and project-specific NEPA analysis will be prepared.

If BOEM determines during the EA process that issuing leases, authorizing site assessment activities, or associated site characterization activities within the Call Area would constitute a major Federal action significantly affecting the human environment, BOEM will publish a Notice of Intent to prepare an Environmental Impact Statement (EIS). If BOEM determines during the EA process that issuing leases, authorizing site assessment activities, or associated site characterization activities within the Call Area would not be a major impact significantly affecting the human environment, BOEM will issue a Finding of No Significant Impact (FONSI). After either a FONSI is issued or the EIS process is completed, BOEM may issue one or more renewable energy leases within the Call Area. In the event that a particular lease is issued, and the lessee submits a SAP, BOEM will determine whether the EA adequately considers the environmental impacts of the activities proposed in the lessee's SAP. If the analysis in the EA adequately addresses these impacts, then no further NEPA analysis will be required before the SAP is approved. If the EA requires supplementation, additional NEPA analysis would be conducted before the SAP could be approved.

3. Information That Will Be Incorporated Into the EA

On November 6, 2007, BOEM published a Notice of Availability (NOA) in the Federal Register (72 FR 62,672) of the Programmatic EIS for Alternative Energy Development and Production and Alternate Use of Facilities on the Outer Continental Shelf, Final EIS (OCS Report MMS 2007-046). BOEM has prepared several EAs for areas in the North Atlantic and Mid-Atlantic OCS that evaluated activities similar to those to be addressed in the EA for which this Notice is being published (http://www.boem.gov/Renewable-Energy-Program/Smart-from-the-Start/Index.aspx). Additionally, BOEM has published a Final Programmatic EIS for proposed geological and geophysical activities in the Mid-Atlantic and South Atlantic OCS Planning Areas (OCS EIS/EA BOEM 2014-001).

BOEM will incorporate the environmental and socioeconomic analyses of site characterization and assessment activities from previous NEPA documents and other public information to help inform its analysis in the EA.

4. Description of the Call Area

A detailed description of the Call Area can be found in the Call that is being published concurrently with this Notice.

A map of the Call Area can be found at the following URL: http://boem.gov/Renewable-Energy-Program/State-Activities/New York.aspx.

A large-scale map of the Call Area showing its boundaries and with numbered blocks is available from BOEM at the following address: Bureau of Ocean Energy Management, Office of Renewable Energy Programs, 381 Elden Street, HM 1328, Herndon, Virginia 20170-4817, Phone: (703) 787-1320.

5. Cooperating Agencies

BOEM invites Federal, state, and local government agencies, as well as tribal governments, to consider becoming cooperating agencies in the preparation of this EA. Regulations implementing the procedural provisions of NEPA define cooperating agencies as those with “jurisdiction by law or special expertise” (40 CFR 1508.5). Potential cooperating agencies should consider their authority and capacity to assume the responsibilities of a cooperating agency and remember that an agency's role in the environmental analysis neither enlarges nor diminishes the final decisionmaking authority of any other agency involved in the NEPA process.

Upon request, BOEM will provide potential cooperating agencies with a draft memorandum of agreement that includes a schedule with critical action dates and milestones, mutual responsibilities, designated points of contact, and expectations for handling pre-decisional information. Agencies should also consider the ”Factors for Determining Cooperating Agency Status” in Attachment 1 to CEQ's January 30, 2002, Memorandum for the Heads of Federal Agencies: Cooperating Agencies in Implementing the Procedural Requirements of the NEPA. A copy of this document is available at: http://ceg.hss.doe.gov/nepa/regs/cooperating/cooperatingagenciesmemorandum.html and at: http://ceg.hss.doe.gov/nepa/regs/cooperating/cooperatingagencymemofactors.html.

BOEM, as the lead agency, will not provide financial assistance to cooperating agencies. If an agency is not a cooperating agency, it may provide information to BOEM during the public comment period for the EA.

6. Comments

Federal, state, local government agencies; tribal governments; and other interested parties are requested to send their written comments regarding environmental issues and potential alternatives to the proposed action described in this Notice in one of the following ways:

1. Electronically: http://www.regulations.gov. In the entry entitled “Enter Keyword or ID,” enter BOEM-2014-0003, then click “search.” Follow the instructions to submit public comments and view supporting and related materials available for this document.

2. In written form, delivered by hand or by mail, enclosed in an envelope labeled “Comments on New York EA” to Program Manager, Office of Renewable Energy Programs, Bureau of Ocean Energy Management, 381 Elden Street, HM 1328, Herndon, Virginia 20170-4817. Comments should be submitted no later than July 14, 2014.

Dated: April 21, 2014.
Tommy P. Beaudreau,
Director, Bureau of Ocean Energy Management.

[FR Doc. 2014-12067 Filed 5-27-14; 8:45 am]

BILLING CODE 4310-MR-P